ENVIRONMENTAL PROTECTION AGENCY

[OPPTS-00315; FRL-6780-5]

Forum on State and Tribal Toxics Action (FOSTTA); Notice of Public Meeting

AGENCY: Environmental Protection Agency (EPA).

ACTION: Notice.

SUMMARY: One component (The Pollution Prevention Project) of the Forum on State and Tribal Toxics Action (FOSTTA) will meet May 17-18, 2001. This notice announces the location, times, and the focus of the meeting. The National Conference of State Legislatures (NCSL) and the Environmental Protection Agency's (EPA) Office of Pollution Prevention and Toxics (OPPT) are co-sponsoring the meeting. As part of a cooperative agreement, NCSL facilitates ongoing efforts of the States and Tribes to identify, discuss, and address toxics-related issues, and to continue the dialogue on how Federal environmental programs can best be implemented.

DATES: The Pollution Prevention Project will meet May 17, 2001, from 8 a.m. to 5 p.m. and May 18, 2001, from 8 a.m. to noon.

ADDRESSES: The meeting will be held at the Embassy Suites Hotel, 1900 Diagonal Road, Alexandria, VA, 22314. The hotel is across from the King Street Metro Station.

FOR FURTHER INFORMATION CONTACT: For general information contact: Barbara Cunningham, Acting Director, Environmental Assistance Division, Office of Pollution Prevention and Toxics (7408), Environmental Protection Agency, 1200 Pennsylvania Ave., NW., Washington, DC 20460; telephone number: (202) 260-1761.

For technical information contact: George Hagevik, National Conference of State Legislatures, 1560 Broadway, Suite 700, Denver, CO 80202; telephone number: (303) 839-0273 and Fax: (303) 863-8003; e-mail: george.hagevik@ncsl.org or

Darlene Harrod, Environmental Assistance Division (7408), OPPT, Environmental Protection Agency, 1200 Pennsylvania Ave., NW., Washington, DC 20460; telephone number: (202) 260-6904 and Fax: (202) 260-2219; e-mail: harrod.darlene@epamail.epa.gov.

SUPPLEMENTARY INFORMATION:

I. Does this Action Apply to Me?

This action is directed to the public in general. This action may, however, be of interest to all parties interested in FOSTTA and hearing more about the perspectives of the States on EPA programs and the information exchange regarding important issues related to human health and environmental exposure to toxics. Since other entities may also be interested, the Agency has not attempted to describe all the specific entities that may be affected by this action. However, in the interest of time and efficiency, the meetings are structured to provide maximum opportunity for State and EPA participants to discuss items on the predetermined agenda. At the discretion of the chair, an effort will be made to accommodate participation by observers attending the proceedings. If you have any questions regarding the applicability of this action to a particular entity, consult the technical people listed under FOR FURTHER INFORMATION CONTACT.

II. How Can I Get Additional Information, Including Copies of this Document or Other Related Documents?

1. Electronically. You may obtain electronic copies of this document, and certain other related documents that might be available electronically, from the NCSL Web site at http://www.ncsl.org/programs/esnr/fostta/fostta.htm. To access this document on the EPA Internet Home Page go to http://www.epa.gov and select “Laws and Regulations” and then look up the entry for this document under the “Federal Register—Environmental Documents”. You can also go directly to the Federal Register listings at http://www.epa.gov/fedrgstr/FOSTTA.

2. Facsimile. Notify the contacts listed above if you would like any of the documents sent to you via fax.

III. Purpose of Meeting

The focus of the meeting is to discuss strategic directions for pollution prevention for the Federal EPA program and the State P2 programs.

IV. How Can I Request To Participate in this Meeting?

You may submit a request to participate in this meeting by mail or electronically to the names under the FOR FURTHER INFORMATION CONTACT section. Do not submit any information in your request that is considered Confidential Business Information. Your request must be received by EPA on or before May 15, 2001.

List of Subjects

Environmental protection.

Dated: April 18, 2001.
Barbara Cunningham,
Acting Director, Environmental Assistance Division, Office of Pollution Prevention and Toxics.

[FR Doc. 01-11838 Filed 5-9-01; 8:45am]

BILLING CODE 6560-50-S